DEPARTMENT OF LABOR

Employment and Training Administration

[TA-W-52,275]

Cordis Corporation, Including Leased Workers of Kelly Services Miami Lakes, Florida; Amended Certification Regarding Eligibility To Apply for Worker Adjustment Assistance

In accordance with section 223 of the Trade Act of 1974 (19 U.S.C. 2273) the Department of Labor issued a Certification of Eligibility to Apply for Worker Adjustment Assistance on August 7, 2003, applicable to workers of Cordis Corporation, Miami Lakes, Florida. The notice was published in the Federal Register on September 2, 2003 (68 FR 52228).

At the request of the State agency, the Department reviewed the certification for workers of the subject firm. New information shows that leased workers of Kelly Services were employed at Cordis Corporation, at the Miami Lakes, Florida location of the subject firm.

Based on these findings, the Department is amending this certification to include leased workers of Kelly Services working at Cordis Corporation, Miami Lakes, Florida.

The intent of the Department's certification is to include all workers of Cordis Corporation who were adversely affected by increased imports of medical devices.

The amended notice applicable to TA-W-52,275 is hereby issued as follows:

All workers of Cordis Corporation, and leased workers of Kelly Services, Miami Lakes, Florida, who became totally or partially separated from employment on or after June 20, 2002, through August 7, 2005, are eligible to apply for adjustment assistance under Section 223 of the Trade Act of 1974.

Signed at Washington, DC, this 4th day of March, 2004.
Richard Church,
Certifying Officer, Division of Trade Adjustment Assistance.

[FR Doc. E4-589 Filed 3-15-04; 8:45 am]

BILLING CODE 4510-13-P